DEPARTMENT OF COMMERCE

International Trade Administration

[A-552-802]

Certain Frozen Warmwater Shrimp From the Socialist Republic of Vietnam: Extension of Final Results of Antidumping Duty New Shipper Review

AGENCY: Import Administration, International Trade Administration, Department of Commerce.

SUMMARY: The Department of Commerce (“Department”) is extending the time limit for the final results of the new shipper review of certain frozen warmwater shrimp from the Socialist Republic of Vietnam (“Vietnam”). The review covers the period February 1, 2010, through July 31, 2010.

DATES: Effective Date: July 15, 2011.

FOR FURTHER INFORMATION CONTACT: Paul Walker, AD/CVD Operations, Office 9, Import Administration, International Trade Administration, U.S. Department of Commerce, 14th Street and Constitution Avenue, NW., Washington, DC 20230; telephone: (202) 482-0413.

Background

On April 13, 2011, the Department published in the Federal Register the preliminary results of the new shipper review of shrimp from Vietnam.¹ The respondent in this new shipper review is Quoc Viet Seaproducts Processing Trading and Import-Export Co., Ltd. The final results are currently due no later than July 5, 2011.

¹ See Certain Frozen Warmwater Shrimp from the Socialist Republic of Vietnam: Preliminary Results of Antidumping Duty New Shipper Review, 76 FR 20627 (April 13, 2011).

Statutory Time Limits

Section 751(a)(2)(B)(iv) of the Tariff Act of 1930, as amended (the “Act”), and section 351.214(i)(1) of the Department's regulations, require the Department to issue the final results in a new shipper review 90 days after the date on which the preliminary results are issued. The Department may, however, extend the deadline for completion of the final results of a new shipper review to 150 days if it determines that the case is extraordinarily complicated.²

² See section 751(a)(2)(B)(iv) of the Act and section 351.214(i)(2) of the Department's regulations.

Extension of Time Limit for Final Results of Review

We determine that this case is extraordinarily complicated because the Department requires additional time to analyze issues involving the wage rate calculation. Therefore, in accordance with section 751(a)(2)(B)(iv) of the Act, and section 351.214(i)(2) of the Department's regulations, we are extending the time for the completion of the final results of this review by 30 days to August 4, 2011.

We are issuing and publishing this notice in accordance with sections 751(a)(1) and 777(i)(1) of the Act.

Dated: June 30, 2011.
Christian Marsh,
Deputy Assistant Secretary for Antidumping and Countervailing Duty Operations.

[FR Doc. 2011-17725 Filed 7-14-11; 8:45 am]

BILLING CODE 3510-DS-P